FEDERAL COMMUNICATIONS COMMISSION

47 CFR Part 73

[DA 02-3418; MB Docket No. 02-143; RM 10392]

Radio Broadcasting Services; Lebanon and Speedway, IN

AGENCY: Federal Communications Commission.

ACTION: Final rule.

SUMMARY: In this document, the Commission reallots Channel 265A from Lebanon to Speedway, Indiana, as the community's first local aural transmission service and modifies the license for Station WYJZ(FM) to reflect the changes. See 67 FR 42216 (06/21/2002). Station WYJZ(FM), currently operating as a short-spaced station, will be able to operate as a fully spaced station and will eliminate two short-spacings. Channel 265A is allotted at Speedway at petitioner's requested transmitter site which is 4.9 kilometers (3.0 miles) southeast of the community. Coordinates for Channel 265A at Speedway are NL 39-46-10 and WL 86-13-45.

DATES: Effective January 30, 2003.

FOR FURTHER INFORMATION CONTACT: Victoria M. McCauley, Media Bureau, (202) 418-2180.

SUPPLEMENTARY INFORMATION: This is a synopsis of the Commission's Report and Order, MB Docket No. 02-143, adopted December 13, 2002, and released December 16, 2002. The full text of this Commission decision is available for inspection and copying during normal business hours in the FCC Reference Center (Room 239), 445 12th Street, SW., Washington, DC. This document may also be purchased from the Commission's duplicating contractor, Qualex International, Portals II, 445 12th Street, SW., Room CY-B402, Washington, DC, 20554, telephone 202-863-2893, facsimile 202-863-2898, or via e-mail qualexint@aol.com.

List of Subjects in 47 CFR Part 73

Radio, Radio broadcasting.

Part 73 of Title 47 of the Code of Federal Regulations is amended as follows:

PART 73—RADIO BROADCAST SERVICES

1. The authority citation for Part 73 continues to read as follows:

Authority: 47 U.S.C. 154, 303, 334, and 336.

§ 73.202 [Amended]

2. Section 73.202(b), the Table of FM Allotments under Indiana, is amended by adding Speedway, Channel 265A and removing Lebanon, Channel 265A.

Federal Communications Commission.
John A. Karousos,
Assistant Chief, Audio Division, Media Bureau.

[FR Doc. 03-164 Filed 1-3-03; 8:45 am]

BILLING CODE 6712-01-P